SUSQUEHANNA RIVER BASIN COMMISSION

Commission Meeting; Correction

AGENCY: Susquehanna River Basin Commission.

ACTION: Notice; correction.

SUMMARY: The Susquehanna River Basin Commission will hold its regular business meeting on December 6, 2018, in Harrisburg, Pennsylvania. Details concerning the matters to be addressed at the business meeting are contained in the Supplementary Information section of this notice. Also the Commission published a document in the Federal Register of October 3, 2018 (83 FR 49969), concerning its public hearing on November 1, 2018, in Harrisburg, Pennsylvania. The document was revised to update the projects scheduled for action items #11 and #12, also contained below in the SUPPLEMENTARY INFORMATION section of this notice.

DATES: The meeting will be held on Thursday, December 6, 2018, at 9 a.m.

ADDRESSES: The meeting will be held at the Susquehanna River Basin Commission, Susquehanna Conference Room, 4423 N Front Street, Harrisburg, PA 17110.

FOR FURTHER INFORMATION CONTACT: Ava Stoops, Administrative Specialist, 717-238-0423, ext. 1302.

SUPPLEMENTARY INFORMATION: The business meeting will include actions or presentations on the following items: (1) Informational presentation of interest to the lower Susquehanna River region; (2) consideration of a resolution outlining the Auxiliary Powers of the Commission under Section 15.1 of the Compact; (3) resolution adopting FY2018 audit report; (4) ratification/approval of contracts/grants; (5) a report on delegated settlements; (6) settlement agreement from EQT Production Company for violation of passby flow conditions; (7) resolution concerning FY2020 federal funding of the Groundwater and Streamflow Information Program; (8) a proposed consumptive use mitigation project located in Conoy Township, Lancaster County, Pa. and associated water supply agreement with the Lancaster County Solid Waste Management Authority; (9) potential request for waiver of 18 CFR 806.31(e) as it pertains to submittal of renewal application for a groundwater withdrawal approval; and (10) Regulatory Program projects. The revised projects scheduled for action are as follows:

11. Project Sponsor and Facility: East Cocalico Township Authority, East Cocalico Township, Lancaster County, Pa. Application for renewal of groundwater withdrawal of up to 0.045 mgd (30-day average) from Well 10 (Docket No. 19890101).

12. Project Sponsor and Facility: East Cocalico Township Authority, East Cocalico Township, Lancaster County, Pa. Application for renewal of groundwater withdrawal of up to 0.059 mgd (30-day average) from Well 9 (Docket No. 19890101).

Regulatory Program projects and the consumptive use mitigation project listed for Commission action were those that were the subject of public hearings conducted by the Commission on November 1, 2018, and August 2, 2018, respectively, and identified in the notices for such hearings, which were published in 83 FR 49969, October 3, 2018, and 83 FR 31439, July 5, 2018, respectively.

The public is invited to attend the Commission's business meeting. Comments on the Regulatory Program projects and the consumptive use mitigation project were subject to deadline of November 13, 2018, and August 13, 2018, respectively. Written comments pertaining to other items on the agenda at the business meeting may be mailed to the Susquehanna River Basin Commission, 4423 North Front Street, Harrisburg, Pennsylvania 17110-1788, or submitted electronically through www.srbc.net/about/meetings-events/business-meeting.html. Such comments are due to the Commission on or before November 30, 2018. Comments will not be accepted at the business meeting noticed herein.

Authority: Pub. L. 91-575, 84 Stat. 1509 et seq., 18 CFR parts 806, 807, and 808.

Dated: November 1, 2018.
Stephanie L. Richardson,
Secretary to the Commission.

[FR Doc. 2018-24373 Filed 11-6-18; 8:45 am]

BILLING CODE 7040-01-P